DEPARTMENT OF THE INTERIOR

National Park Service

[NPS-WASO-NAGPRA-15715; PPWOCRADN0-PCU00RP14.R50000]

Notice of Inventory Completion: Denver Museum of Nature & Science, Denver, CO

AGENCY: National Park Service, Interior.

ACTION: Notice.

SUMMARY: The Denver Museum of Nature & Science has completed an inventory of human remains, in consultation with Indian tribes and Native Hawaiian organizations, and has determined that there is no cultural affiliation between the human remains and any present-day Indian tribes or Native Hawaiian organizations. Representatives of any Indian tribe or Native Hawaiian organization not identified in this notice that wish to request transfer of control of these human remains should submit a written request to the Denver Museum of Nature & Science. If no additional requestors come forward, transfer of control of the human remains to the Indian tribes or Native Hawaiian organizations stated in this notice may proceed.

DATES: Representatives of any Indian tribe or Native Hawaiian organization not identified in this notice that wish to request transfer of control of these human remains should submit a written request with information in support of the request to the Denver Museum of Nature & Science at the address in this notice by July 24, 2014.

ADDRESSES: Chip Colwell-Chanthaphonh, Denver Museum of Nature and Science, 2001 Colorado Blvd., Denver, CO 80205-5798, telephone (303) 370-6367, email chip.c-c@dmns.org.

SUPPLEMENTARY INFORMATION: Notice is here given in accordance with the Native American Graves Protection and Repatriation Act (NAGPRA), 25 U.S.C. 3003, of the completion of an inventory of human remains under the control of the Denver Museum of Nature & Science (DMNS). The human remains were removed from unknown locations.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the DMNS professional staff in consultation with representatives of the Bishop Paiute Tribe (previously listed as the Paiute-Shoshone Indians of the Bishop Community of the Bishop Colony, California); Cayuga Nation; Central Council of the Tlingit & Haida Indian Tribes; Death Valley Timbi-sha Shoshone Tribe (previously listed as the Death Valley Timbi-Sha Shoshone Band of California); Delaware Nation, Oklahoma; Delaware Tribe of Indians; Hui Kaleleiki Ohana; Hui Ho'oniho; Hui Malama I Na Kupuna `O Hawaii Nei; Mashpee Wampanoag Tribe (previously listed as the Mashpee Wampanoag Indian Tribal Council, Inc.); Mohegan Indian Tribe of Connecticut; Morongo Band of Mission Indians, California (previously listed as the Morongo Band of Cahuilla Mission Indians of the Morongo Reservation); Nondalton Village; Onondaga Nation; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Pueblo of Acoma, New Mexico; Saint Regis Mohawk Tribe (previously the St. Regis Band of Mohawk Indians of New York); Santa Rosa Indian Community of the Santa Rosa Rancheria, California; Seneca Nation of Indians (previously listed as the Seneca Nation of New York); Southern Ute Indian Tribe of the Southern Ute Reservation, Colorado; Susanville Indian Rancheria, California; The Osage Nation (previously listed as the Osage Tribe); Tonawanda Band of Seneca (previously listed as the Tonawanda Band of Seneca Indians of New York); Tuscarora Nation; Ute Indian Tribe of the Uintah & Ouray Reservation, Utah; and Ute Mountain Tribe of the Ute Mountain Reservation, Colorado, New Mexico & Utah, on October 9, 2013. Several other tribes initiated brief telephone consultations with the DMNS.

On November 21, 2013, letters were mailed to all tribes listed as Indian Entities Recognized and Eligible to Receive Services from the United States Bureau of Indian Affairs (77 FR 47868-47873, August 10, 2012) (hereafter referred to as “The Notified Indian Tribes”). In addition, notification was sent to Native Hawaiian organizations, including Aha Kane; Aha Moku O Kahikinui; Aha Moku o Maui Inc.; Aha Wahine; `Ahahui Siwila Hawai`i O Kapōlei; Ahupua`a o Moloka`i; Aloha First; Association of Hawaiian Civic Clubs; Association of Hawaiians for Homestead Lands; Au Puni O Hawaii; Brian Kaniela Nae`ole Naauao; Charles Pelenui Mahi Ohana; Council for Native Hawaiian Advancement; Four Points Global Services, Corp.; Friends of `Iolani Palace; Friends of Moku`ula, Inc.; George K. Cypher `Ohana; God's Country Waimanalo; Hau`ouiwi Homestead Association on Lāna`i; Hawai`i Maoli; Hawaii Island Burial Council; Hawaiian Civic Club of Hilo; Ho Ohana; Ho`okano Family Land Trust; Hui Ho`oniho; Hui Huliau; Hui Kāko`o `Āina Ho`opulapula; Hui Kaleleiki Ohana; Hui Malama I Na Kupuna 'O Hawaii Nei; Kāko`o `Ōiwi; Kalaeloa Heritage and Legacy Foundation; Kalama`ula Mauka Homestead Association; Kamealoha; Kamehameha Schools—Community Relations and Communications Group, Government Relations; Kamiloloa One Alii Homestead Association; Kanu o ka `Āina Learning `Ohana; Kapolei Community Development Corporation; Kauai/Niihau Island Burial Council; Kawaihapai Ohana; Keoni Kealoha Alvarez; Ko`olau Foundation; Ko`olaupoko Hawaiian Civic Club; La`i `Ōpua 2020; Lahui Kaka`ikahi; Ma`a `Ohana; Machado-Akana-Aona-Namakaeha Ohana; Mahu Ohana; Makaha Hawaiian Civic Club; Maku`u Farmers Association; Malu`ōhai Residents Association; Maui/Lani Island Burial Council; Meleana Kawaiaea, LLC; Moku o Kaupo; Molokai Island Burial Council; Na Aikane O Maui; Na Ku`auhau `o Kahiwakaneikopolei; Na Ohana o Puaoi a me Hanawahine; Nanakuli Housing Corporation; Native Hawaiian Church; Native Hawaiian Economic Alliance; Native Hawaiian Education Council; Nekaifes Ohana; O'ahu Burial Council; Office of Hawaiian Affairs; Pacific American Foundation; Pacific Justice & Reconciliation Center; Papa Ola Lokahi; Papakōlea Community Development Corporation; Paukukalo Hawaiian Homes Community Association; Peahi Ohana; Piihonua Hawaiian Homestead Community Association; Royal Hawaiian Academy of Traditional Arts; The Friends of Hokule`a and Hawai`iloa; The I Mua Group; Wai`anae Hawaiian Civic Club; Waiehu Kou Phase 3 Association; and Waimānalo Hawaiian Homes Association (hereafter referred to as “The Notified Native Hawaiian organizations”). Enclosed with each of the letters was a disposition request and statement of support for disposition.

DMNS received requests for joint transfer of control of the human remains to the Bois Forte Band (Nett Lake) of the Minnesota Chippewa Tribe, Minnesota; California Valley Miwok Tribe, California; Cheyenne River Sioux Tribe of the Cheyenne River Reservation, South Dakota; Confederated Tribes of the Umatilla Indian Reservation (previously listed as the Confederated Tribes of the Umatilla Reservation, Oregon); Crow Tribe of Montana; Death Valley Timbi-sha Shoshone Tribe (previously listed as the Death Valley Timbi-Sha Shoshone Band of California); Delaware Tribe of Indians; Eastern Band of Cherokee Indians; Elk Valley Rancheria, California; Flandreau Santee Sioux Tribe of South Dakota; Fort McDermitt Paiute and Shoshone Tribes of the Fort McDermitt Indian Reservation, Nevada and Oregon; Friends of `Iolani Palace; Ho-Chunk Nation of Wisconsin; Hopi Tribe of Arizona; Hui Ho`oniho; Hui Malama I Na Kupuna 'O Hawaii Nei; Iowa Tribe of Kansas and Nebraska; Keweenaw Bay Indian Community, Michigan; Knik Tribe; Lac Vieux Desert Band of Lake Superior Chippewa Indians of Michigan; Mahu Ohana; Match-e-be-nash-she-wish Band of Potawatomi Indians of Michigan; Mechoopda Indian Tribe of Chico Rancheria, California; Na Aikane O Maui; Naknek Native Village; Native Hawaiian Education Council; Native Village of Afognak; Native Village of Barrow Inupiat Traditional Government; Native Village of Kivalina; Native Village of Tanacross; Noorvik Native Community; Northway Village; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Paukukalo Hawaiian Homes Community Association; Petersburg Indian Association; Pueblo of Acoma, New Mexico; Pueblo of Isleta, New Mexico; Pueblo of Laguna, New Mexico; Pueblo of San Felipe, New Mexico; Pueblo of Santa Ana, New Mexico; Qagan Tayagungin Tribe of Sand Point Village; Saginaw Chippewa Indian Tribe of Michigan; Santa Rosa Band of Cahuilla Indians, California (previously listed as the Santa Rosa Band of Cahuilla Mission Indians of the Santa Rosa Reservation); Susanville Indian Rancheria, California; Three Affiliated Tribes of the Fort Berthold Reservation, North Dakota; Tonawanda Band of Seneca (previously listed as the Tonawanda Band of Seneca Indians of New York); Traditional Village of Togiak; Tuscarora Nation; Ute Mountain Tribe of the Ute Mountain Reservation, Colorado, New Mexico & Utah; Village of Stony River; Ysleta Del Sur Pueblo of Texas; and Yupiit of Andreafski (hereafter referred to as “The Requesting Indian Tribes” and “The Requesting Native Hawaiian organizations”).

Statements of support for the proposed transfer of control have been received from the Aha Moku o Maui Inc.; Big Sandy Rancheria of Western Mono Indians of California (previously listed as the Big Sandy Rancheria of Mono Indians of California); Blue Lake Rancheria, California; Buena Vista Rancheria of Me-Wuk Indians of California; Chickaloon Native Village; Cowlitz Indian Tribe; Duckwater Shoshone Tribe of the Duckwater Reservation, Nevada; Gila River Indian Community of the Gila River Indian Reservation, Arizona; Jena Band of Choctaw Indians; Kickapoo Tribe of Oklahoma; Leech Lake Band of the Minnesota Chippewa Tribe, Minnesota; Little Traverse Bay Bands of Odawa Indians, Michigan; Mashantucket Pequot Indian Tribe (previously listed as the Mashantucket Pequot Tribe of Connecticut); Mille Lacs Band of the Minnesota Chippewa Tribe, Minnesota; Native Village of Chenega (aka Chanega); Native Village of Eyak (Cordova); Native Village of Port Graham; Native Village of Saint Michael; Native Village of Tatitlek; Native Village of Unga; Native Village of White Mountain; Navajo Nation, Arizona, New Mexico & Utah; Nisqually Indian Tribe (previously listed as the Nisqually Indian Tribe of the Nisqually Reservation, Washington); Papa Ola Lokahi; Peoria Tribe of Indians of Oklahoma; Pokagon Band of Potawatomi Indians, Michigan and Indiana; Pribilof Islands Aleut Communities of St. Paul & St. George Islands; San Carlos Apache Tribe of the San Carlos Reservation, Arizona; Scotts Valley Band of Pomo Indians of California; Shingle Springs Band of Miwok Indians, Shingle Springs Rancheria (Verona Tract), California; Sisseton-Wahpeton Oyate of the Lake Traverse Reservation, South Dakota; Sun'aq Tribe of Kodiak (previously listed as the Shoonaq' Tribe of Kodiak); Tejon Indian Tribe; Tonto Apache Tribe of Arizona; Walker River Paiute Tribe of the Walker River Reservation, Nevada; and Wichita and Affiliated Tribes (Wichita, Keechi, Waco & Tawakonie), Oklahoma.

There are no objections by The Notified Indian Tribes or The Notified Native Hawaiian organizations to the proposed transfer of control of the human remains.

History and Description of the Remains

On an unknown date, human remains representing, at minimum, three individuals (A1121.1A-O and A1121.2A-B, D-I) were removed from an unknown location. In 1980, the human remains were donated to the DMNS by Dr. Bruce Rippeteau, an archeologist who worked in numerous locations throughout the United States, served as State Archaeologist for Colorado (1976-1980, 1983-1984) and South Carolina (1984-2000), taught at the State University of New York at Oneonta, and was the director of the University of South Carolina Institute of Archaeology and Anthropology. He published many books and articles, including A Colorado Book of the Dead: The Prehistoric Era (1978). No known individuals were identified. No associated funerary objects are present.

On an unknown date, human remains representing, at minimum, one individual (IL-2007-57.1) were removed from an unknown location. In 2007, the human remains were located in collections storage without having been inventoried. No known individuals were identified. No associated funerary objects are present.

On an unknown date, human remains representing, at minimum, one individual (A1116.1) were removed from an unknown location. In 1980, the human remains were donated to the DMNS by H. Mason Morfit, M.D. The donor used skulls, including this skull, in planning surgical approaches. No known individuals were identified. No associated funerary objects are present.

Determinations Made By the Denver Museum of Nature & Science

Officials of the DMNS have determined that:

• Pursuant to 25 U.S.C. 3001(9), the human remains described in this notice are Native American based the morphological evidence, institutional history, and oral tradition.

• Pursuant to 25 U.S.C. 3001(9), the human remains described in this notice represent the physical remains of 5 individuals of Native American ancestry.

• Pursuant to 25 U.S.C. 3001(2), a relationship of shared group identity cannot be reasonably traced between the Native American human remains and any present-day Indian tribe.

• Pursuant to 43 CFR 10.16, the disposition of the human remains will be to The Requesting Indian Tribes and The Requesting Native Hawaiian organizations.

NAGPRA Review Committee Actions

Pursuant to 43 CFR 10.16, the Secretary of the Interior may make a recommendation for the transfer of control of culturally unidentifiable human remains. In April 2014, the DMNS requested that the Secretary, through the NAGPRA Review Committee, recommend the proposed transfer of control of the culturally unidentifiable Native American human remains in this notice to The Requesting Indian Tribes and The Requesting Native Hawaiian organizations. The Requesting Indian Tribes and The Requesting Native Hawaiian organizations jointly requested transfer of control of the human remains.

The Review Committee, acting pursuant to its responsibility under 25 U.S.C. 3006(c)(5), considered the request at its April 10, 2014 meeting and recommended to the Secretary that the proposed transfer of control proceed. A May 5, 2014, letter on behalf of the Secretary of Interior from the Designated Federal Official transmitted the Secretary's independent review and concurrence with the Review Committee that:

• The DMNS consulted with appropriate Indian tribes and Native Hawaiian organizations,

• none of The Notified Indian Tribes or The Notified Native Hawaiian organizations objected to the proposed transfer of control, and

• the DMNS may proceed with the agreed upon transfer of control of the culturally unidentifiable human remains to The Requesting Indian Tribes and The Requesting Native Hawaiian organizations

Transfer of control is contingent on the publication of a Notice of Inventory Completion in the Federal Register. This notice fulfills that requirement.

Additional Requestors and Disposition

Representatives of any Indian tribe or Native Hawaiian organization not identified in this notice that wish to request transfer of control of these human remains should submit a written request with information in support of the request to Chip Colwell-Chanthaphonh, Denver Museum of Nature and Science, 2001 Colorado Blvd., Denver, CO 80205-5798, telephone (303) 370-6367, email chip.c-c@dmns.org, by July 24, 2014. After that date, if no additional requestors have come forward, transfer of control of the human remains to The Requesting Indian Tribes and The Requesting Native Hawaiian organizations may proceed.

The DMNS is responsible for notifying The Notified Indian Tribes and The Notified Native Hawaiian organizations that this notice has been published.

Dated: May 5, 2014.
David Tarler,
Acting Manager, National NAGPRA Program.

[FR Doc. 2014-14743 Filed 6-23-14; 8:45 am]

BILLING CODE 4312-50-P